DEPARTMENT OF ENERGY

Federal Energy Regulatory Commission

[Docket No. CP07-208-000]

Rockies Express Pipeline LLC; Notice of Technical Conference

February 7, 2008.

On February 20, 2008, staff of the Office of Energy Projects (OEP) will hold a technical conference for the REX East Project. Rockies Express Pipeline LLC requested the Technical Conference to discuss compliance with Section 106 of the National Historic Preservation Act.

The technical conference will be held on Wednesday, February 20, 2008, at 1 p.m. (EST), in Room 3M-2B at the Commission Headquarters, 888 First Street, NE., Washington, DC.

Commission conferences are accessible under section 508 of the Rehabilitation act of 1973. For accessibility accommodations please send an e-mail to accessibility@ferc.gov or call toll free 1-866-208-3372 (voice) or 202-208-8659 (TTY), or send a FAX to 202-208-2106 with the required accommodations.

Information concerning any changes to the above may be obtained from the Commission's Office of External Affairs at (202) 502-8004 or toll free at 1-866-208-FERC (208-3372).

Kimberly D. Bose,
Secretary.

[FR Doc. E8-2731 Filed 2-13-08; 8:45 am]

BILLING CODE 6717-01-P